NATIONAL SCIENCE FOUNDATION

Advisory Committee for Engineering; Notice of Meeting

In accordance with the Federal Advisory Committee Act (Pub. L. 92-463, as amended), the National Science Foundation announces the following meeting:

Name: Advisory Committee for Engineering #1170.

Date/Time: April 27, 2016: 12:55 p.m. to 5:30 p.m. April 28, 2016: 8:30 a.m. to 12:00 p.m.

Place: National Science Foundation, 4201 Wilson Boulevard, Suite 1235, Arlington, Virginia 22230.

Type of Meeting: Open.

Contact Person: Evette Rollins, National Science Foundation, 4201 Wilson Boulevard, Suite 505, Arlington, Virginia 22230; 703-292-8300.

Purpose of Meeting: To provide advice, recommendations and counsel on major goals and policies pertaining to engineering programs and activities.

Agenda

Wednesday, April 27, 2016

• Directorate for Engineering Report

• NSF INCLUDES Panel Discussion

• Energy-efficient Computing Panel Discussion

Thursday, April 28, 2016

• Perspectives from the Office of the Director

• Engineering Research in a World of Big Data

• Big Data

• GERMINATION

• Roundtable on ENG Strategic Activities and Recommendations

Dated: March 29, 2016.
Crystal Robinson,
Committee Management Officer.

[FR Doc. 2016-07407 Filed 3-31-16; 8:45 am]

BILLING CODE 7555-01-P